DEPARTMENT OF COMMERCE

Office of the Secretary

15 CFR Part 4

[Docket No. 140127076-4935-03]

RIN 0605-AA33

Public Information, Freedom of Information Act and Privacy Act Regulations; Correction

AGENCY: Department of Commerce.

ACTION: Final rule; correction.

SUMMARY: The Department of Commerce (Department) is correcting a final rule, published on October 20, 2014, that revised the Department's regulations under the Freedom of Information Act (FOIA) and Privacy Act. This final rule corrects the cross-references in the section describing the requirements for making FOIA requests.

DATES: Effective November 19, 2014.

FOR FURTHER INFORMATION CONTACT: Mark R. Tallarico, Senior Counsel, (202) 482-8156, Office of the General Counsel, 1401 Constitution Avenue NW., Washington, DC 20230.

SUPPLEMENTARY INFORMATION: In FR Doc. 2014-24598 appearing on page 62553 in the Federal Register of Monday, October 20, 2014 (79 FR 62553), the following correction is made:

§ 4.4 [Corrected]

On page 62559, in the second column, in § 4.4(c), the second to last sentence is corrected to read as follows:

“Such a notice constitutes an adverse determination under § 4.7(d) for which components shall follow the procedures for a denial letter under § 4.7(e).”

Dated: November 13, 2014.
Catrina D. Purvis,
Chief Privacy Officer and Director of Open Government.

[FR Doc. 2014-27265 Filed 11-17-14; 8:45 am]

BILLING CODE 3510-17-P